DEPARTMENT OF HOUSING AND URBAN DEVELOPMENT

[Docket No. FR-5607-N-15]

Mortgagee's Certificate of Fees and Escrow and Surety Bond Against Defects Due to Defective Material and/or Faulty Workmanship

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: July 10, 2012.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Relay Information Service, 1-800-877-8330.

FOR FURTHER INFORMATION CONTACT: Daniel J. Sullivan, Acting Director, Office of Multifamily Development, Department of Housing and Urban Development, 451 7th Street SW., Washington, DC 20410, telephone (202) 402-6130 (this is not a toll free number) for copies of the proposed forms and other available information.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Mortgagee's Certificate of Fees and Escrow and Surety Bond Against Defects Due to Defective Material and/or Faulty Workmanship.

OMB Control Number, if applicable: 2502-0468.

Description of the need for the information and proposed use: The information collection is used by Mortgagees to ensure that fees are within acceptable limits and the required escrows will be collected. HUD determines the reasonableness of the fees and uses the information in calculating the financial requirement for closing.

Agency form numbers, if applicable: HUD-2434 and HUD-3259.

Estimation of the total numbers of hours needed to prepare the information collection including number of respondents, frequency of response, and hours of response: The number of burden hours is 1050. The number of respondents is 1,000. The number of annual responses is 2,000; the frequency of each response is once for each application submitted for mortgage insurance.

Status of the proposed information collection: This is an extension of a currently approved collection.

Authority: The Paperwork Reduction Act of 1995, 44 U.S.C., chapter 35, as amended.

Dated: May 7, 2012.
Ronald Y. Spraker,
Acting General Deputy Assistant Secretary for Housing—Acting General Deputy Federal Housing, Commissioner.

[FR Doc. 2012-11517 Filed 5-10-12; 8:45 am]

BILLING CODE 4210-67-P